DEPARTMENT OF TRANSPORTATION

Federal Aviation Administration

14 CFR Part 71

[Docket No. FAA-2003-16707; Airspace Docket No. 2003-ANE-104]

Proposed Establishment of Class E Airspace; Manchester, NH

AGENCY: Federal Aviation Administration (FAA), DOT.

ACTION: Notice of Proposed Rulemaking.

SUMMARY: This notice proposes the Establishment of a Class E airspace area at Manchester, NH (KMHT) to provide for controlled airspace upward from the surface during the times when the air traffic controller tower at Manchester will be closed.

DATES: Comments must be received on or before April 5, 2004.

ADDRESSES: Send comments on the proposal to the Docket Management System, U.S. Department of Transportation, Room Plaza 401, 400 Seventh Street, SW., Washington, DC 2050-0001. You must identify the docket Number at the beginning of your comments, FAA-2003-16707/Airspace Docket 2003-ANE-104. You may also submit comments using the Internet at: http://dms.dot.gov. You may review the public docket in person in the Dockets Office between 9 a.m., and 5 p.m., Monday through Friday, except Federal holidays. The docket contains the proposal, any comments received, and any final disposition. The Docket Office (telephone 1-800-647-5527) is located on the plaza level of the Department of Transportation NASSIF Building at the same address.

You may examine an informal docket by appointment at the New England Region, Air Traffic Division, 12 New England Executive Park, Burlington, MA 01803-5299; telephone (781) 238-7520.

FOR FURTHER INFORMATION CONTACT: Angel Cases, Air Traffic Division, Airspace Branch, ANE-520, Federal Aviation Administration, 12 New England Executive Park, Burlington, MA 01803-5299; telephone (781) 238-7520; fax (781) 238-7596.

SUPPLEMENTARY INFORMATION:

Comments Invited

Interested persons are invited to participate in this proposed rulemaking by submitting written data, views, or arguments. Comments that provide a factual basis supporting the views and suggestions presented are particularly helpful in developing reasoned regulatory decisions on the proposal and determining whether additional rulemaking action is needed. Comments are specifically invited on the overall regulatory, aeronautical, economic, environmental, and energy-related aspects of the proposal that might suggest a need to modify the proposed rule. comments must identify both docket numbers and must be submitted to the address listed under ADDRESSES. If you want the FAA to acknowledge receipt of your comment then with your comment send a self-addressed, stamped postcard with the following statement: “Comments to Docket No. FAA-2003-16707, Airspace Docket No. 2003-ANE-104.” We will date/time stamp the postcard and return it to you. We will consider all comments received on or before the closing date for comments, and may change the proposal in light of the comments we receive. All comments submitted are available for examination in the Rules Docket and on the Internet, both before and after the closing date for comments. A report that summarizes each FAA-public contact concerned with the substance of this action will be filed in the Rules Docket.

Availability of NRPM's

An electronic copy of this document may be downloaded through the Internet at: http://dms.dot.gov. Recently published rulemaking documents can also be accessed through the FAA's Web page, http://www.faa.voc, or the Superintendent of Document's Web page, http://access.gpo.gov/nara.

In addition, any person may obtain a copy of this NRPM by submitting a request to the Federal Aviation Administration, Office of Air Traffic Airspace Management, ATA-400, 800 Independence Avenue, SW., Washington, DC 20591, or by calling (202) 267-8783. Requests must contain both docket numbers for this notice. If you are interested in being placed on a mailing list for future NPRMs, you should contact the FAA's Office of Rulemaking, (202) 267-9677, to request a copy of Advisory Circular No. 11-2A, Notice of Proposed Rulemaking Distribution System, which describes the application procedures.

The Proposal

The FAA is proposing to establish a Class E airspace area extending upward from the surface at Manchester Airport, Manchester, NH. The purpose of this controlled airspace will be to provide for controlled airspace from the surface to accommodate aircraft executing instrument approaches and departures from the airport during times when the air traffic control town at Manchester is closed. The airspace in the vicinity of Manchester, NH is currently within a Class C area. In a separate action, the FAA will be proposing to modify the current Class C area to be effective only during those times when the air traffic control tower is open. When that air traffic control tower would be closed, the airspace from the surface to 700 feet would revert to uncontrolled airspace. This action is therefore necessary to provide for controlled airspace from the surface during those times when the air traffic control tower is closed in order to accommodate aircraft executing instrument approaches and departures to and from Manchester during those times.

Class E airspace designations for airspace extending upward from the surface of an airport are published in paragraph 6002 of FAA Order 7400.9L, dated September 2, 2003, and effective September 16, 2003, which is incorporated by reference in 14 CFR 71.1. The Class E airspace designations listed in this document will be published subsequently in this Order.

Agency Findings

This rule does not have federalism implications, as defined in Executive Order No. 13132, because it does not have a substantial direct effect on the States, on the relationship between the national government and the States, or on the distribution of power and responsibilities among the various levels of government. According, the FAA has not consulted with state authorities prior to publication of this rule.

The FAA has determined that this proposed regulation only involves a body of technical regulations for which frequent and routine amendments are necessary to keep them operationally current. For the reasons discussed in the preamble, I certify that this regulation (1) is not a “significant regulatory action” under Executive Order 12866; (2) is not a “significant rule” under Department of Transportation (DOT) Regulatory Policies and Procedures (44 FR 11034, February 26, 1979); and (3) does not warrant preparation of a Regulatory Evaluation as the anticipated effect on these routine matters will is so minimal. Since this proposal will only affect air traffic procedures and air navigation, it is certified that this proposed rule will not have significant economic impact on a substantial number of small entities under the criteria of the Regulatory Flexibility Act.

List of Subjects in 14 CFR Part 71

Airspace, Incorporation by reference, Navigation (air).

The Proposed Amendment

Accordingly, pursuant to the authority delegated to me, the Federal Aviation Administration proposes to amend part 71 of the Federal Aviation Regulations (14 CFR part 71) as follows:

PART 71—[AMENDED]

1. The authority citation for part 71 continues to read as follows:

Authority: 49 U.S.C. 106(g), 40103, 40113, 40120; E.O. 10854, 24 FR 9565, 3 CFR, 1959-1963 Comp., p. 389.

2. The incorporation by reference in 14 CFR 71.1 of Federal Aviation Administration Order 7400.9L, Airspace Designations and Reporting Points, dated September 2, 2003, and effective September 16, 2003, is amended as follows:

Paragraph 6002 Class E Airspace Areas Extending Upward From the Surface of an Airport

* * * * *

ANE NH E2 Manchester, NH [New]

Manchester Airport, NH

(Lat. 42°55′57″ N., long. 71°26′8″ W.)

Within a 5-mile radius of the Manchester Airport. This Class E airspace area is effective during the specific dates and times established in advance by a Notice to Airmen. The effective date and time will thereafter be continuously published in the Airport/Facility Director.

* * * * *

Issued in Burlington, MA, on January 13, 2004.
William C. Yuknewicz,
Acting Manager, Air Traffic Division, New England Region.

[FR Doc. 04-2445 Filed 2-4-04; 8:45 am]

BILLING CODE 4910-13-M